ENVIRONMENTAL PROTECTION AGENCY

[FRL-7012-4]

Office of Air and Radiation-Immediate Office Environmental Internship Assistance Completion: Solicitation Notice

AGENCY: Environmental Protection Agency (EPA).

ACTION: Notice.

SUMMARY: This document solicits grant proposals from educational institutions and non-profit organizations to support the Office of Air and Radiation Immediate Office's Environmental Internship Program and explains the process for submitting such a proposal.

DATES: All applications should be received by September 30, 2001.

FOR FURTHER INFORMATION CONTACT: Linda Zarow, USEPA, Office of Air and Radiation, Immediate Office, Ariel Rios Building; 1200 Pennsylvania Avenue, NW.; Washington, DC 20004, mail code 6101A. Telephone (202) 564-7431; Fax (202) 501-1004; or e-mail: zarow.linda@epa.gov.

SUPPLEMENTARY INFORMATION:

Contents by Section

I. Background/Purpose

II. Funding Issues

III. Eligibility

IV. Deadlines/Dates

V. Program Design

VI. Criteria/Scope

VII. Proposals/Application Format

VIII. How to Apply

IX. Where and When to Submit

X. Additional Considerations

XI. Pre-application Assistance

I. Background/Purpose

This document solicits grant proposals from educational institutions and non-profit organizations to support the Office of Air and Radiation's Immediate Office's Environmental Internship Program (hereinafter referred to as “program”) that will provide undergraduate students with internships in various environmental positions. This intern program will provide students with work experience, orientation, mentoring, career development, and resume writing to reflect their environmental training positions. This program will enable students to prepare to become future leaders in the environmental field and to recognize and appropriately manage complex environmental problems. It will also provide students with an environmental consciousness to encourage them to pursue environmental careers and become environmentally conscious citizens.

II. Funding Issues

Subject to the availability of funds, EPA anticipates approximately $600,000 over a three year period, to be available for this program, including all direct and indirect costs. EPA expects to award one cooperative agreement for the full amount. Proposals may request funding with a total project cost of up to $200,000 per year with a duration of up to three years. This cooperative agreement is authorized under CAA section 103(b)(3) and no matching funds are required from the recipient. The Catalogue of Federal Domestic Assistance (FDA) is 66.606.

III. Eligibility

Organizations being targeted for this assistance agreement include educational institutions and not-for-profit organizations. CAA section 103 prohibits for-profit organizations from receiving grants from EPA. EPA reserves the right to reject all applications and make no awards.

IV. Deadlines/Dates

In order to efficiently manage the selection process, the Office of Air and Radiation requests that an “Intent to Apply” be submitted by August 13. These should be submitted to Linda Zarow; mail code 6101A; Room Number 5443K Ariel Rios North Building; Environmental Protection Agency; 1200 Pennsylvania Ave., NW.; Washington, D.C. 20460. (Please provide project title or subject and e-mail address.) E-mail address: Zarow.linda@epa.gov; Fax # 202/501-1004.

An “Intent to Apply” simply states, in the form of e-mail, letter, or fax, that your organization intends to submit a proposal to be received by the September 30, 2001 deadline for receipt of pre-proposals. Please provide your project title or subject and a return e-mail address. Submitting an “Intent to Apply” does not commit an organization to submit a pre-proposal. Only those submitting an “Intent to Apply” may submit a pre-proposal. To allow for efficient management of the competitive process, OAR is requesting organizations to submit an Intent to Apply no later than August 13, 2001.

V. Program Design

EPA anticipates student stipends should not exceed $4,500 per semester with a minimum of seven students per semester. Applicants should describe the following in detail:

• Recruitment: Describe your process for recruiting from a diverse population of students. Include a list of colleges/universities to be targeted for recruitment activities and describe how your organization will ensure qualified students have access to internship materials.

• Housing: It is anticipated most interns will be from cities other than Washington, D.C. and, therefore, will require assistance in obtaining housing accessible to public transportation. Describe the type of housing assistance you will provide for interns.

• Stipends: Describe your process for tracking and payment of student stipends.

• Tracking: Describe your process for measuring the success of this program in encouraging students to pursue environmental careers.

• Student Evaluation and Application Processing: Describe your process for accepting, reviewing and evaluating student applications. At a minimum, the application process must evaluate potential interns on the basis of their computer skills, academic record, awards, and writing skills. Special consideration should be given to applicants that have scholarships or fellowships and work experience.

• Internship Training Program: Describe your protocol and procedures for managing an environmental internship program. At a minimum, the protocol and procedures should address college accreditation for students, supplemental training for interns and evaluation of student performance.

• Student eligibility requirements for internships: Students must be enrolled full-time in a four year accredited college or university. Full time students enrolled in a four year college or university must have achieved at least second semester sophomore standing, or have completed 45 credit hours of academic study. Students must have a grade point average of 2.8 or higher to meet eligibility for internships at EPA.

VI. Criteria/Scope

Review and Selection Process: Pre-proposals submitted to EPA headquarters will be evaluated using the criteria defined below. Pre-proposals will be reviewed in two phases—the screening phase and the evaluation phase. During the screening phase, proposals will be reviewed to be determined whether they meet the basic requirements of this solicitation. Only those pre-proposals that meet all of these basic requirements will enter the full evaluation phase of the review process. During the evaluation phase, proposals will be evaluated based upon the quality of their work plans, and how well their proposed programs meet the criterion outlined below. Reviewers conducting the screening and evaluation phases of the review process will include EPA officials and external environmental educators approved by EPA. At the conclusion of the evaluation phase, the reviewers will score work plans, on a one hundred point scale, based upon the system below:

Criterion | Maximum points per criterion
Effectiveness of overall work plan and recruitment time line, and reasonableness of costs contained in budget detail | 30
Ability to recruit from a diverse population of students and schools | 20
Ability to assist students in locating housing arrangements accessible to public transportation | 20
Adequacy of student accreditation program and supplemental training | 20
Ability to evaluate intern performance | 10
Total Points Possible | 100

VII. Proposals/Application Format

The pre-proposal should conform to the following outline:

1. Title

2. Applicant (Organization) and contact name, phone number, fax and e-mail address

3. Summary of funds requested by budget categories contained in SF-424

4. Project period: beginning and ending dates (for planning purposes, applicants should assume funds will be available in May 2002 to begin recruiting students for placement during Fall 2002)

5. Project work plan (including a description of all tasks, dates of completion, products and deliverables, and detailed budget and narrative)

6. Evaluation plan

7. Recruitment plan

8. Internship training program

9. Tracking plan

10. Report Schedule: Acknowledgment of quarterly report requirement (schedule established by EPA) and planned final report submission date

11. Budget (Please provide for the following categories):

—Personnel

—Fringe Benefits

—Contractual Costs

—Travel

—Equipment

—Supplies

—Other

—Total Direct Costs

—Total Cost

VIII. How To Apply

Intents to Apply: Intents to Apply may take the form of an e-mail, letter or fax and should be sent to: Linda Zarow, Ariel Rios Building, 1200 Pennsylvania Ave. Rm. 5433, Washington DC 20004; mail code 6101A, fax (202) 501-1004.; email: zarow.linda@epa.gov. Please include organization name, contact, and phone number.

Pre-Proposals: A hard copy original and 6 copies of the pre-proposal should be submitted to Linda Zarow at the address stated above. The pre-proposal must be postmarked before midnight September 30, 2001. Courier or personally delivered applications must be brought to Room 5443K Ariel Rios North Building, 1200 Pennsylvania Avenue, NW., Washington DC 20004.

Submission of an Intent to Apply or a pre-proposal does not guarantee funding.

IX. Pre-Application Assistance

To ensure that every interested party has equal opportunity to gain any needed additional administrative information useful to the application process, OAR will schedule a conference call for those who have submitted an intent to apply. EPA will notify applicants submitting an Intent to Apply of the date, time and call in number for this pre-application discussion. Questions and answers from this conference call will be summarized and available by contacting Linda Zarow by e-mail (zarow.linda@epa.gov). Federal rules protecting applicants' equal access to information prohibit any other contact that would result in information given to some but not all applicants. Therefore, as much as it desires to encourage all interested applicants, EPA can give no other assistance prior to final submission of applications. Requests for information outside the context of this conference call cannot be answered. The content of the call is entirely dependent upon questions asked.

Dated: July 10, 2001.
Linda Zarow,
Program Analyst, Office of Air and Radiation.

[FR Doc. 01-17909 Filed 7-17-01; 8:45 am]

BILLING CODE 6560-50-P